DEPARTMENT OF DEFENSE

Office of the Secretary

[Transmittal No. 19-02]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-02 with attached Policy Justification and Sensitivity of Technology.

Dated: March 8, 2019.
Aaron T. Siegel,
Alternate OSD Federal Register Liaison Officer, Department of Defense.

Transmittal No. 19-02

Notice of Proposed Issuance of Letter of Offer Pursuant to Section 36(b)(1) of the Arms Export Control Act, as amended

(i) Prospective Purchaser: Government of India

(ii) Total Estimated Value:

Major Defense Equipment * | $ 26 million
Other | $164 million
Total | $190 million

(iii) Description and Quantity or Quantities of Articles or Services under Consideration for Purchase: India has requested a possible sale of two (2) Self-Protection Suites (SPS) consisting of AN/AAQ 24(V)N Large Aircraft Infrared Countermeasures (LAIRCM), ALQ-211(V)8 Advanced Integrated Defensive Electronic Warfare Suite (AIDEWS), and AN/ALE-47 Counter-Measures Dispensing System (CMDS) to protect two (2) Boeing-777 Head-of-State aircraft. The LAIRCM system consists of three (3) Guardian Laser Terminal Assemblies (GLTA), six (6) Missile Warning Sensors (MWS) for AN/AAQ-24 (V)N, one (1) LAIRCM System Processor Replacements (LSPR), one (1) Control Indicator Unit Replacement (CIUR), one (1) Smart Card Assembly and one (1) High Capacity Card (HCC)/User Data Memory (UDM) card.

Major Defense Equipment (MDE):

Twelve (12) Guardian Laser Transmitter Assemblies (GLTA) AN/AAQ-24(V)N (6 installed, 6 spares)

Eight (8) LAIRCM System Processor Replacements (LSPR) AN/AAQ-24(V)N (2 installed, 6 spares)

Twenty-three (23) Missile Warning Sensors (MWS) for AN/AAR-54 AAQ-24(V)N (12 installed, 11 spares)

Five (5) AN/ALE-47 Counter-Measures Dispensing System (CMDS) (2 installed, 3 spares)

Non-MDE:

Also included are Advanced Integrated Defensive Electronic Warfare Suites (AIDEWS), LAIRCM CIURs, SCAs, HCCs, and UDM cards, initial spares, consumables, repair and return support, support equipment, Self-Protection Suite (SPS) engineering design, integration, hardware integration, flight test and certification, selective availability anti-spoofing modules (SAASM), warranties, publications and technical documentation, training and training equipment, field service representatives; U.S. Government and contractor engineering, technical and logistics support services, and other related elements of logistical and program support.

(iv) Military Department: Air Force (IN-D-QAF)

(v) Prior Related Cases, if any: IN-D-QJD, IN-D-QAA, IN-D-QAD

(vi) Sales Commission, Fee, etc., Paid, Offered, or Agreed to be Paid: None

(vii) Sensitivity of Technology Contained in the Defense Article or Defense Services Proposed to be Sold: See Attached Annex.

(viii) Date Report Delivered to Congress: February 6, 2019

*As defined in Section 47(6) of the Arms Export Control Act.

POLICY JUSTIFICATION

India—777 Large Aircraft Infrared Countermeasures Self-Protection Suite

The Government of India has requested to buy two (2) Self-Protection Suites (SPS) consisting of AN/AAQ 24(V)N Large Aircraft Infrared Countermeasures (LAIRCM), ALQ-211(V)8 Advanced Integrated Defensive Electronic Warfare Suite (AIDEWS), and AN/ALE-47 Counter-Measures Dispensing System (CMDS) to protect two (2) Boeing-777 Head-of-State aircraft. This potential sale would include: twelve (12) Guardian Laser Transmitter Assemblies AN/AAQ-24 (V)N (6 installed and 6 spares); eight (8) LAIRCM System Processor Replacements (LSPR) AN/AAQ-24 (V)N (2 installed and 6 spares); twenty-three (23) Missile Warning Sensors (MWS) for AN/AAQ-24 (V)N (12 installed and 11 spares); five (5) AN/ALE-47 Counter-Measures Dispensing System (CMDS) (2 installed and 3 spares). Also included in this sale are Advanced Integrated Defensive Electronic Warfare Suites (AIDEWS), LAIRCM CIURs, SCAs, HCCs, and UDM cards, initial spares, consumables, repair and return support, support equipment, Self-Protection Suite (SPS) engineering design, integration, hardware integration, flight test and certification, selective availability anti-spoofing modules (SAASM), warranties, publications and technical documentation, training and training equipment, field service representatives; U.S. Government and contractor engineering, technical and logistics support services, and other related elements of logistical and program support. The total estimated cost is $190 million.

This proposed sale will support the foreign policy and national security of the United States by helping to strengthen the U.S.-Indian strategic relationship and to improve the security of a major defensive partner which continues to be an important force for political stability, peace, and economic progress in the Indo-Pacific and South Asia region.

The proposed sale will improve India's capability to deter regional threats. The SPS will facilitate a more robust capability into areas of increased missile threats. India will have no problem absorbing and using the SPS system.

The proposed sale of this equipment and support will not alter the basic military balance in the region.

The prime contractor will be Boeing Company, Oklahoma City, OK. The purchaser typically requests offsets. Any offset agreement will be defined in negotiations between the purchaser and the contractor.

Implementation of this proposed sale will require the assignment of one additional U.S. contractor representative to New Delhi, India.

There will be no adverse impact on U.S. defense readiness as a result of this proposed sale.

Transmittal No. 19-02

Notice of Proposed Issuance of Letter of Offer Pursuant to Section 36(b)(1) of the Arms Export Control Act

Annex

Item No. vii

(vii) Sensitivity of Technology:

1. The AN/AAQ-24(V)N LAIRCM is a self-contained, directed energy countermeasures system designed to protect aircraft from infrared-guided surface-to-air missiles. The system features digital technology and micro-miniature solid-state electronics. The system operates in all conditions, detecting incoming missiles and jamming infrared-seeker equipped missiles with aimed bursts of laser energy. The LAIRCM system consists of multiple Missile Warning Sensors, Guardian Laser Turret Assembly (GLTA), LAIRCM System Processor Replacement (LSPR), Control Indicator (CI), and a classified User Data Memory (UDM) card containing the laser jam codes. The UDM card is loaded into Computer Processor (CP) prior to flight; when not in use, the UDM card is removed from the CP and put in secure storage. The Missile Warning Sensors (MWS) for AN/AAQ-24 (V)N are mounted on the aircraft exterior to provide omni-directional protection. The MWS detects the rocket plume of missiles and sends appropriate data signals to the CP for processing. The CP analyzes the data from each sensor and automatically deploys the appropriate countermeasure via the GLTA. The CI displays the incoming threat for the pilot to take appropriate action. The CP also contains Built-in-Test (BIT) circuitry. LAIRCM hardware is CLASSIFIED. LAIRCM system software, including Operational Flight Program and jam codes, are classified SECRET. Technical data and documentation to be provided is UNCLASSIFIED.

2. The AN/ALE-47 Countermeasure Dispenser Set (CMDS) provides an integrated threat-adaptive, computer controlled capability for dispensing chaff, flares, and active radio frequency expendables. The AN/ALE-47 system enhances aircraft survivability in sophisticated threat environments. The threats countered by the CMDS include radar-directed anti-aircraft artillery (AAA), radar command-guided missiles, radar homing guided missiles, and infrared (IR) guided missiles. The system is internally mounted and may be operated as a stand-alone system or may be integrated with other on-board Electronic Warfare (EW) and avionics systems. The AN/ALE-47 uses threat data received over the aircraft interfaces to assess the threat situation and determine a response. Expendable routines tailored to the immediate aircraft and threat environment may be dispensed. Hardware is UNCLASSIFIED. Software is SECRET. Technical data and documentation to be provided is UNCLASSIFIED.

3. AN/ALQ-211 Airborne Integrated Defensive Electronic Warfare Suite (AIDEWS) provides passive radar warning, wide spectrum RF jamming, and control and management of the entire EW system. It is an internally or externally mounted Electronic Warfare (EW) suite. The commercially developed system software and hardware is UNCLASSIFIED. The system is classified SECRET when loaded with a U.S.-derived EW database.

4. If a technologically advanced adversary were to obtain knowledge of the hardware and software elements, the information could be used to develop countermeasures or equivalent systems which might reduce system effectiveness or be used in the development of a system with similar or advanced capabilities.

5. A determination has been made that the Government of India can provide substantially the same degree of protection for the sensitive technology being released as the U.S. Government. This sale is necessary in furtherance of the U.S. foreign policy and national security objectives outlined in the Policy Justification.

6. All defense articles and services listed in this transmittal have been authorized for release and export to India.

[FR Doc. 2019-04641 Filed 3-12-19; 8:45 am]

BILLING CODE 5001-06-P